DEPARTMENT OF THE INTERIOR

National Park Service

Official Trail Market for the North Country National Scenic Trail

AGENCY: National Park Service, Interior.

ACTION: Official Insignia, Designation.

Authority: National Trails System Act, 16 U.S.C. 1241(a) and 1246c and Protection of Official Badges, Insignia, etc. in 18 U.S.C. 701.

SUMMARY: This notice issues the official trail marker insignia of the North County National Scenic Trail. The original graphic image was developed as part of the Trail's comprehensive plan for management and use in 1982 and published in the Federal Register, May 13, 1983. The National Park Service has officially used this insignia—and subsequent variations—since. It was slightly redesigned in 1996 so that lettering and framing match other National Trails System markers. The earlier designs which are still in use along the Trail are also protected from unauthorized uses by this notice. This publication accomplished the official designation of the insignia now in use by the National Park Service.

SUPPLEMENTARY INFORMATION: The primary author of this document is Steven Elkinton, Program Leader for National Trails System Programming, National Center for Recreation and Conservation.

The insignia depicted below is prescribed as the official trail logo for the North County National Scenic Trail, administration by the National Park Service, Ice Age and North Country National Scenic Trails, Madison, WI. Authorization for use of this trail market is controlled by the administrator of the Trail.

In making this prescription, notice is hereby given that whoever manufactures, sells or possesses this insignia, or any colorable imitation thereof, or photographs or prints or in any other manner makes or executes any engraving, photograph or print, or impression in the likeness of this insignia, or any colorable imitation thereof, without written authorization from the United States Department of the Interior is subject to the penalty provisions of section 701 of Title 18 of the United States Code.

FOR FURTHER INFORMATION CONTACT: Steven Elkinton, Program Leader for National Trails System Programming, NPS, ms-3622, U.S. Department of the Interior, 1849 C Street, NW., Washington, DC 20240, 202-565-1177.

Dated: March 16, 2000.
Denis P. Galvin,
Acting Director.

[FR Doc. 00-7564 Filed 3-27-00; 8:45 am]

BILLING CODE 4310-70-M